DEPARTMENT OF VETERANS AFFAIRS

Professional Certification and Licensure Advisory Committee; Notice of Meeting

The Department of Veterans Affairs (VA) gives notice under Public Law 92-463 (Federal Advisory Committee Act) that the Professional Certification and Licensure Advisory Committee has scheduled a meeting on Wednesday, October 15, 2003, at the Department of Veterans Affairs, Veterans Benefits Administration Education Conference Room 601V, 1800 G Street, NW., Washington, DC, from 8:30 a.m. to 4 p.m. The meeting is open to the public.

The purpose of the Committee is to advise the Secretary of Veterans Affairs on the requirements of organizations or entities offering licensing and certification tests to individuals for which payment for such tests may be made under chapters 30, 32, 34, or 35 of Title 38, United States Code.

The meeting will begin with opening remarks and introduction of new members by Ms. Sandra Winborne, Committee Chair. During the morning session, the Committee will receive a report on outreach activities, and a presentation on licensure and certification usage. The afternoon session will include a progress report on improvements to the Licensing and Certification Approval System (LACAS), and discussion of any old or new business.

Interested persons may file written statements to the committee before the meeting, or within 10 days after the meeting, with Mr. Giles Larrabee, Designated Federal Official, Department of Veterans Affairs, Veterans Benefits Administration (225B), 810 Vermont Avenue, NW., Washington, DC 20420. Oral statements from the public will be heard at 1 p.m. Any member of the public wishing to attend the meeting should contact Mr. Giles Larrabee or Mr. Michael Yunker at (202) 273-7187.

Dated: September 17, 2003.
By Direction of the Secretary:
E. Philip Riggin,
Committee Management Officer.

[FR Doc. 03-24923 Filed 9-30-03; 8:45 am]

BILLING CODE 8320-01-M